FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 010776-121.

Title: Asia North America Eastbound Rate Agreement.

Parties: American President Lines, Ltd., APL Co. Pte Ltd., Hapag-Lloyd Container Line GmbH, Kawasaki Kisen Kaisha, Ltd., Mitsui O.S.K. Lines, Ltd., A. P. Moller-Maersk Sealand, Nippon Yusen Kaisha, Orient Overseas Container Line Limited, P & O Nedlloyd B.V., P & O Nedlloyd Limited.

Synopsis: The proposed agreement modification extends the suspension of the conference for another six-month period, through November 1, 2002.

Agreement No.: 011708-002.

Title: Zim/COSCON Slot Charter Agreement.

Parties: Zim Israel Navigation Company Ltd., COSCO Container Lines Co. Ltd.

Synopsis: The proposed amendment adds the trade between the United States East Coast and North Europe to the scope of the agreement, extends the duration of the agreement, and makes address/contact information and other technical revisions.

Agreement No.: 011795.

Title: Puerto Rican Cross Space Charter and Sailing Agreement.

Parties: Compania Chilena de Navegacion Interoceanica S.A., Compania Sud Americana de Vapores S.A.

Synopsis: The proposed agreement authorizes the parties to cross charter container space in the trade between Puerto Rican ports, on the one hand, and ports on the Mediterranean, Black, and Caribbean Seas and ports on the West coast of South America, on the other hand. The parties request expedited review.

Dated: March 22, 2002.
By order of the Federal Maritime Commission.
Bryant L. VanBrakle,
Secretary.

[FR Doc. 02-7369 Filed 3-26-02; 8:45 am]

BILLING CODE 6730-01-P